DEPARTMENT OF COMMERCE

National Oceanic and Atmospheric Administration

[I.D. 110502A]

Endangered Species; File No. 1397

AGENCY: National Marine Fisheries Service (NMFS), National Oceanic and Atmospheric Administration (NOAA), Commerce.

ACTION: Receipt of application.

SUMMARY: Notice is hereby given that Dr. Jeanette Wyneken, Florida Atlantic University, Department of Biological Sciences, 777 Glades Rd., Boca Raton, FL 33431, has applied in due form for a permit to take green sea turtles (Chelonia mydas) for purposes of scientific research.

DATES: Written or telefaxed comments must be received on or before December 27, 2002.

ADDRESSES: The application and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

FOR FURTHER INFORMATION CONTACT: Carrie Hubard or Ruth Johnson, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant requests a 2-year permit to capture, sample, and release green sea turtles on shallow reefs in Palm Beach County, FL. The research is designed to examine the seasonal habitat utilization, abundance, and movements of green sea turtles in this region. Forty sea turtles will be captured by hand at night and transported to land for sampling. All turtles will be weighed, measured, photographed, and have stomach lavage performed. Captures will be limited to twice a month to minimize the affects of possible recapturing. Ten of the 40 turtles captured will also have a VHF transmitter attached to the carapace and a unique identification number painted on the carapace with white epoxy paint. Turtles will be released within 12 hours of capture and will be returned to site of capture. At the completion of the study, tagged turtles will be located, recaptured, the tag removed, and released.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period. Please note that comments will not be accepted by e-mail or by other electronic media.

Dated: November 21, 2002.
Eugene T. Nitta,
Acting Chief, Permits, Conservation and Education Division, Office of Protected Resources, National Marine Fisheries Service.

[FR Doc. 02-30134 Filed 11-26-02; 8:45 am]

BILLING CODE 3510-22-S